DEPARTMENT OF JUSTICE

Notice of Lodging of Consent Decree Under the Comprehensive Environmental Response, Compensation and Liability Act

In accordance with Department of Justice policy and section 122(d)(2) of the Comprehensive Environmental, Response, Compensation, and Liability Act (“CERCLA”), 42 U.S.C. 9622(d)(2), notice is hereby given that on August 9, 2007, a proposed consent decree (“Consent Decree”) in United States v. City of Woodstock, Civil action No. 3:07-cv-50145, was lodged with the United States District Court for the Northern District of Illinois.

The Consent Decree would resolve CERCLA claims against both defendants named in the complaint—the city of Woodstock and Honeywell International, Inc. (collectively “Defendants”)—in exchange for payments of (i) $567,000 to reimburse the United States' past response costs incurred related to the remedial actions at the City of Woodstock Municipal Landfill Superfund Site (“Site”) in Woodstock, Illinois, and (ii) $400,000 for natural resource damages. The Consent Decree would also require Defendants to pay the United States' future response costs related to the Site and complete the remedial action at the Site.

The Department of Justice will receive for a period of thirty (30) days from the date of this publication comments relating to the Consent Decree. Comments should be addressed to the Assistant Attorney General, Environment and Natural Resources Division, and either e-mailed to pubcomment-ees.enrd@usdoj.gov or mailed to P.O. Box No. 7611, Washington, DC 20044-7611, and should refer to United States v. City of Woodstock, Civil Action No. 3:07-cv-50145, D.J. Ref. 90-11-2-959/1.

The Consent Decree may be examined at the Office of the United States Attorney for the Northern District of Illinois, 308 West State Street, Room 300, Rockford, Illinois 61101, and at U.S. EPA Region 5, 77 W. Jackson Blvd., Chicago, Illinois 60604-4590. During the public comment period, the Consent Decree may also be examined on the following Department of Justice Web site http://www.usdoj.gov/enrd/Consent_Decrees.html. A copy of the Consent Decree may also be obtained by mail from the Consent Decree Library, P.O. Box 7611, U.S. Department of Justice, Washington DC 20044-7611, or by faxing or e-mailing a request to Tonia Fleetwood (tonia.fleetwood@usdoj.gov), fax no. (202) 514-0097, phone confirmation number (202) 514-1547. In requesting a copy from the Consent Decree Library, please enclose a check in the amount of $50.75 (203 pages at 25 cents per page reproduction cost) payable to the U.S. Treasury. In requesting a copy exclusive of appendices and defendants' signatures, please enclose a check in the amount of $10.50 (42 pages at 25 cents per page reproduction cost) payable to the U.S. Treasury.

William D. Brighton,
Assistant Chief, Environmental Enforcement Section, Environment and Natural Resources Division.

[FR Doc. 07-4120 Filed 8-22-07; 8:45 am]

BILLING CODE 4410-15-M